GENERAL SERVICES ADMINISTRATION

[Notice-MRB-2024-02; Docket No. 2024-0002; Sequence No. 18]

GSA Acquisition Policy Federal Advisory Committee; Notification of Upcoming Web-Based Public Meeting

AGENCY: Office of Government-wide Policy (OGP), General Services Administration (GSA).

ACTION: Meeting notice.

SUMMARY: GSA is providing notice of a meeting of the GSA Acquisition Policy Federal Advisory Committee (hereinafter “the Committee” or “the GAP FAC”) in accordance with the requirements of the Federal Advisory Committee Act (FACA), as amended. This meeting will be open to the public, accessible via webcast. Information on attending and providing written public comment is under the SUPPLEMENTARY INFORMATION section.

DATES: The GAP FAC will hold an open public meeting on Wednesday, May 22, 2024, from 9 a.m. to 1 p.m. eastern standard time (EST).

ADDRESSES: The meeting will be accessible via webcast. Registrants will receive the webcast information before the meeting.

FOR FURTHER INFORMATION CONTACT: Boris Arratia, Designated Federal Officer, OGP, 703-795-0816, or email: boris.arratia@gsa.gov; or Stephanie Hardison, OGP, 202-258-6823, or email: stephanie.hardison@gsa.gov. Additional information about the Committee, including meeting materials and agendas, are available on-line at https://gsa.gov/policy-regulations/policy/acquisition-policy/gsa-acquisition-policy-federal-advisory-committee.

SUPPLEMENTARY INFORMATION:

The GAP FAC continues to serve as an advisory body to GSA's Administrator on how GSA can use its acquisition tools and authorities to target the highest priority Federal acquisition challenges. The GAP FAC Committee continues to provide recommendations that will help advise GSA's Administrator on emerging acquisition issues, challenges, and opportunities to support its role as America's buyer.

Purpose of the Meeting

The purpose of this meeting is for each of the three subcommittees (Policy and Practice, Industry Partnerships, and Acquisition Workforce) to present recommendations to the full Committee. The Committee will, in turn, deliberate and vote on GAP FAC recommendations to be delivered to the GSA Administrator.

Meeting Agenda

• Opening Remarks

• Acquisition Workforce Subcommittee Recommendations and Discussion

• Industry Partnerships Subcommittee Recommendations and Discussion

• Policy and Practices Subcommittee Recommendations and Discussion

• Vote on Recommendations

• Closing Remarks and Adjourn

Meeting Registration

This meeting is open to the public and will be accessible by webcast. Registration information is located on the GAP FAC website: https://www.gsa.gov/policy-regulations/policy/acquisition-policy/gsa-acquisition-policy-federal-advisory-committee. Public attendees who want to attend virtually will need to register no later than 5 p.m. EST, on Tuesday, May 21, 2024 to obtain the meeting webcast information. All registrants will be asked to provide their name, affiliation, and email address. After registration, individuals will receive webcast access information details via email.

Public Comments

Written public comments are being accepted via email at gapfac@gsa.gov. To submit a written public comment, please email at gapfac.gsa.gov and include your name, organization name (if applicable).

Special Accommodations

For information on services for individuals with disabilities, or to request accommodation of a disability, please contact the Designated Federal Officer at least 10 business days prior to the meeting to give GSA as much time as possible to process the request. Closed captioning and live American Sign Language (ASL) interpreter services will be available.

Jeffrey A. Koses,
Senior Procurement Executive, Office of Acquisition Policy, Office of Government-wide Policy.

[FR Doc. 2024-08016 Filed 4-15-24; 8:45 am]

BILLING CODE 6820-RV-P